DEPARTMENT OF HEALTH AND HUMAN SERVICES

Office of the Secretary; Agency Information Collection Activities: Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1

Financial Summary of Obligation and Expenditure of Block Grant Funds (45 CFR 96.30)-0990-0236-Public Law 101-510 amended 31 U.S.C. Chapter 15 to provide that, by the end of the fifth fiscal year after the fiscal year in which the Federal government obligated the funds, the account will be canceled. If valid charges to a canceled account are presented after cancellation, they may be honored only by charging them to a current appropriation account, not to exceed an amount equal to 1 percent of the total appropriations of that account. Because of the need to determine the status of grant accounts to comply with this statutory provision, we have determined that it is appropriate to require an annual report on obligations and/or expenditures from all grantees under the block grant programs. Respondents: State, local or tribal Government. Reporting Burden Information: Number of Respondents: 620; Annual Frequency of Response: one time; Average Burden per Response: one hour; Total Annual Burden: 620 hours.

Send comments via e-mail to Geerie.Jones@HHS.gov, or mail to Cynthia Agens Bauer, OS Reports Clearance Officer, Room 503H, Humphrey Building, 200 Independence Avenue SW., Washington, DC, 20201. Written comments should be received within 60 days of this notice.

Dated: February 14, 2002.
Kerry Weems,
Acting Deputy Assistant Secretary, Budget.

[FR Doc. 02-4799 Filed 2-27-02; 8:45 am]

BILLING CODE 4150-04-M